DEPARTMENT OF HOMELAND SECURITY

Coast Guard

33 CFR Part 165

[Docket No. USCG-2022-0410]

Safety Zones; Fireworks Displays in the Fifth Coast Guard District

AGENCY: Coast Guard, Department of Homeland Security (DHS).

ACTION: Notification of enforcement of regulation.

SUMMARY: The Coast Guard will enforce the Delaware River, Philadelphia, PA; Safety Zone from 9 p.m. through 10 p.m. on May 29, 2022, to provide for the safety of life on navigable waterways during the Rivers Casino fireworks event. Our regulation for marine events within the Fifth Coast Guard District identifies the regulated area for this event in Philadelphia, PA. During the enforcement period, the operator of any vessel in the regulated area must comply with directions from the Patrol Commander or any Official Patrol displaying a Coast Guard ensign.

DATES: The regulation in table 1 to paragraph (h)(1) to 33 CFR 165.506, entry 10 will be enforced 9 p.m. through 10 p.m. on May 29, 2022.

FOR FURTHER INFORMATION CONTACT: If you have questions about this notification of enforcement, you may call or email Petty Officer Jennifer Padilla, U.S. Coast Guard, Sector Delaware Bay, Waterways Management Division, telephone 215-271-4814, email Jennifer.l.Padilla@uscg.mil.

SUPPLEMENTARY INFORMATION: The Coast Guard will enforce the safety zone in table 1 to paragraph (h)(1) to 33 CFR 165.506, entry 10 for the Rivers Casino Fireworks display 9 p.m. through 10 p.m. on May 29, 2022. This action is necessary to ensure safety of life on the navigable waters of the United States immediately prior to, during, and immediately after the fireworks displays. Our regulation for safety zones of fireworks displays within the Fifth Coast Guard District, table 1 to paragraph (h)(1) to 33 CFR 165.506, entry 10 specifies the location of the regulated area as all waters of Delaware River, adjacent to Penn's Landing, Philadelphia, PA, within 500 yards of the fireworks barge position. The approximate position for the display is latitude 39°57′39″ N, longitude 075°07′45″ W. During the enforcement period, as reflected in § 165.506(d), vessels may not enter, remain in, or transit through the safety zone unless authorized by the Captain of the Port or designated Coast Guard patrol personnel on-scene.

In addition to this notification of enforcement in the Federal Register, the Coast Guard will provide notification of this enforcement period via broadcast notice to mariners.

Dated: May 19, 2022.
Jonathan D. Theel,
Captain, U.S. Coast Guard, Captain of the Port Delaware Bay.

[FR Doc. 2022-11468 Filed 5-26-22; 8:45 am]

BILLING CODE 9110-04-P